DEPARTMENT OF THE TREASURY

United States Mint

Notification of American Eagle Platinum Proof and Uncirculated Coin Price Decreases

SUMMARY: The United States Mint is adjusting prices for its American Eagle Platinum Proof and Uncirculated Coins.

Pursuant to the authority that 31 U.S.C. 5112(k) and 5111(a) grant the Secretary of the Treasury to mint and issue platinum coins, and to prepare and distribute numismatic items, the United States Mint mints and issues 2008 American Eagle Platinum Proof and Uncirculated Coins in four denominations with the following weights: One-ounce, one-half ounce, one-quarter ounce, one-tenth ounce. The United States Mint also produces American Eagle Platinum Proof and Uncirculated four-coin sets that contain one coin of each denomination. In accordance with 31 U.S.C. 9701(b)(2)(B), the United States Mint is changing the price of these coins to reflect decreases in the market price of platinum.

Effective on October 17, 2008, the United States Mint will commence selling the following 2008 American Eagle Platinum Proof and Uncirculated Coins according to the following price schedule:

Description | Price
American Eagle Platinum Proof Coins:
One-ounce platinum coin | $1,324.95
One-half ounce platinum coin | 674.95
One-quarter ounce platinum coin | 349.95
One-tenth ounce platinum coin | 149.95
Four-coin platinum set | 2,419.95
American Eagle Platinum Uncirculated Coins:
One-ounce platinum coin | 1,214.95
One-half ounce platinum coin | 619.95
One-quarter ounce platinum coin | 319.95
One-tenth ounce platinum coin | 134.95
Four-coin platinum set | 2,219.95

FOR FURTHER INFORMATION CONTACT: Andrew Brunhart, Deputy Director; United States Mint; 801 Ninth Street, NW., Washington, DC 20220; or call 202-354-7500.

Authority: 31 U.S.C. 5111, 5112 & 9701.

Dated: October 10, 2008.
Edmund C. Moy,
Director, United States Mint.

[FR Doc. E8-24684 Filed 10-16-08; 8:45 am]

BILLING CODE 4810-02-P